DEPARTMENT OF DEFENSE

Office of the Secretary

[Docket ID DOD-2011-OS-0083]

Privacy Act of 1974; System of Records

AGENCY: Missile Defense Agency, Department of Defense (DoD).

ACTION: Notice to Delete a System of Records.

SUMMARY: The Missile Defense Agency proposes to delete a system of records notice in its existing inventory of records systems subject to the Privacy Act of 1974 (5 U.S.C. 552a), as amended.

DATES: This proposed action will be effective without further notice on September 2, 2011 unless comments are received which result in a contrary determination.

ADDRESSES: You may submit comments, identified by docket number and title, by any of the following methods:

* Federal Rulemaking Portal: http://www.regulations.gov. Follow the instructions for submitting comments.

* Mail: Federal Docket Management System Office, 1160 Defense Pentagon, Washington, DC 20301-1160.

Instructions: All submissions received must include the agency name and docket number for this Federal Register document. The general policy for comments and other submissions from members of the public is of make these submissions available for public viewing on the Internet at http://www.regulations.gov as they are received without change, including any personal identifiers or contact information.

FOR FURTHER INFORMATION CONTACT: Mr. Peter Shearston, Missile Defense Agency, MDA/DXCM, 730 Irwin Ave, Schriever AFB, CO 80912-2101, or by phone at 719-721-9865.

SUPPLEMENTARY INFORMATION: The Missile Defense Agency systems of records notices subject to the Privacy Act of 1974, (5 U.S.C. 552a), as amended, have been published in the Federal Register and are available from the address in FOR FURTHER INFORMATION CONTACT.

The Missile Defense Agency proposes to delete a system of records notice from its inventory of record systems subject to the Privacy Act of 1974 (5 U.S.C. 552a), as amended. The proposed deletion is not within the purview of subsection (r) of the Privacy Act of 1974, (5 U.S.C. 552a), as amended, which requires the submission of a new or altered system report.

Dated: July 28, 2011.
Aaron Siegel,
Alternate OSD Federal Register Liaison Officer, Department of Defense.

Deletion

MDA 01

SYSTEM NAME:

Missile Defense Data Center Catalog System Records (December 15, 2008, 73 FR 76009)

Reason:

This system of records application does not store, process, nor transmit PII information and should no longer be registered as a system of record for PII purposes, therefore can be deleted.

[FR Doc. 2011-19613 Filed 8-2-11; 8:45 am]

BILLING CODE 5001-06-P